NATIONAL SCIENCE FOUNDATION

Proposal Review Panel for Physics; Notice of Meeting

In accordance with the Federal Advisory Committee Act (Pub. L. 92-463, as amended), the National Science Foundation (NSF) announces the following meeting:

NAME AND COMMITTEE CODE: ATLAS Annual Review of Operations for the Division of Physics (1208).

DATE AND TIME: July 20-21, 2021; 10:30 a.m.-5:30 p.m.

PLACE: NSF, 2415 Eisenhower Avenue, Alexandria, VA 22314 | Virtual.

TYPE OF MEETING: Part-Open.

CONTACT PERSON: Mark Coles, Program Director, Division of Physics, National Science Foundation, 2415 Eisenhower Avenue, Room 9219, Alexandria, VA 22314; Telephone: (703) 292-4432.

PURPOSE OF MEETING: Evaluate a proposal to fund operation, maintenance, and associated activities for the U.S. ATLAS collaboration.

Agenda

Agenda (all times Eastern Daylight Time [EDT]): NSF will provide the Zoom coordinates for each meeting.

July 20 (Tuesday)

10:30 a.m.-11:00 a.m. Executive Session (Closed)

11:00 a.m.-5:00 p.m. Presentations by ATLAS (with breaks)

5:00 p.m.-5:30 p.m. Executive Session (Closed)

July 21 (Wednesday)

10:30 a.m.-11:00 a.m. Executive Session (Closed)

11:00 a.m. -3:00 p.m. Homework reporting, presentations, breakouts, with breaks

3:00 p.m.-5:00 p.m. Executive Session (Closed)

5:00 p.m.-5:30 p.m. Closeout report by panel

REASON FOR CLOSING: The work being reviewed during closed portions of the virtual site visit include information of a proprietary or confidential nature, including technical information; financial data, such as salaries and personal information concerning individuals associated with the project. These matters are exempt under 5 U.S.C. 552b(c), (4) and (6) of the Government in the Sunshine Act.

Dated: May 7, 2021.
Crystal Robinson,
Committee Management Officer.

[FR Doc. 2021-10082 Filed 5-12-21; 8:45 am]

BILLING CODE 7555-01-P